DEPARTMENT OF THE INTERIOR

Bureau of Land Management

[WO-350-1430-PE-24 1A]

Extension of Approved Information Collection, OMB Approval Number 1004-0010

AGENCY: Bureau of Land Management, Interior

ACTION: Notice and request for comments.

SUMMARY: In accordance with the Paperwork Reduction Act of 1995, the Bureau of Land Management (BLM) requests the Office of Management and Budget (OMB) to extend an existing approval to collect information from those persons who submit a Conveyance Affecting Color or Claim of Title Application (Form No. 2540-2) to apply for public lands under a color-of-title claim. The BLM uses the information to determine if the applicant is eligible to acquire public lands under the Color-of-Title Act of December 22, 1928.

DATES: You must submit your comments to BLM at the address below on or before September 9, 2002. BLM will not necessarily consider any comments received after the above date.

ADDRESSES: You many mail comments to: Regulatory Affairs Group (WO-630), Eastern States Office, 7450 Boston Blvd., Springfield, Virginia 22153.

You may send comments via Internet to: WOComment@blm.gov. Please include “ATTN: 1004-0010” and your name and address with your comments.

You may deliver comments to the Bureau of Land Management, Administrative Record, Room 401, 1620 L Street, NW, Washington, DC.

Comments will be available for public review at the L Street address during regular business hours (7:45 a.m. to 4:15 p.m.) Monday through Friday.

FOR FURTHER INFORMATION CONTACT: You may contact Alzata L. Ransom, Lands and Realty Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Congress passed the Color-of-Title Act of December 22, 1928 (45 Stat. 1069), as amended by the Act of July 28, 1953 (67 Stat. 227; 43 U.S.C. 1068-1068b), to provide for the transfer of legal title to public lands from the United States to eligible individuals, groups, or corporations who have a valid color-of-title claim. The regulations at 43 CFR part 2540 provide guidelines to file a color-of-title claim.

Any individual, group, or corporation that possesses valid evidence of a title to public lands administered by BLM may file a color-of-title application (Form 2540-2). The Act refers to Class I and Class II claims. A Class I is a claim:

(1) held in good faith and peaceful, adverse possession by a claimant, his ancestors or grantors, under claim or color-of-title for a minimum of 20 years; and

(2) where claimant or predecessors placed valuable improvements and cultivated part of the land.

A Class II is a claim held in good faith and peaceful, adverse possession by a claimant, his ancestors or grantors, under claim or color-of-title for the period commencing not later than January 1, 1901, to date of application, during which time they paid taxes levied on the land by State and local governmental units.

A claim is not held in good faith when held with knowledge that the land is owned by the United States. A claim is not held in peaceful, adverse possession if it was initiated while the land was withdrawn or reserved for Federal purposes.

When BLM receives the application, we will analyze the information, conduct an on-site field examination of the lands, and prepare reports. The BLM will approve your application if you meet the requirements of a Class I or Class II claim. We will reject your application if you do not meet the requirements of a Class I or Class II claim. Class II claims are discretionary and we may reject the application if the public interest in retention of the lands clearly outweighs the interest of the applicant

Based on past experience processing these applications, BLM estimates the public reporting burden for completing the Form 2540-2 is one hour. BLM estimates that we receive approximately 37 applications annually, with a total annual burden of 37 hours.

Any member of the public may request and obtain, without charge, a copy of the BLM Form 2540-2 by contacting the person identified under FOR FURTHER INFORMATION CONTACT.

BLM will summarize all responses to this notice and include them in the request for OMB approval. All comments will become a matter of a public record.

Dated: May 22, 2002.
Michael H. Schwartz,
Bureau of Land Management, Information Collection Clearance Officer.

[FR Doc. 02-17410 Filed 7-10-02; 8:45 am]

BILLING CODE 4310-84-M